DEPARTMENT OF DEFENSE

Department of the Army

Privacy Act of 1974; System of Records

AGENCY: Department of the Army, DoD.

ACTION: Notice to amend and delete systems of records.

SUMMARY: The Department of the Army is amending two systems of records notices and deleting one notice from its existing inventory of records systems subject to the Privacy Act of 1974 (5 U.S.C. 552a), as amended, and deleting one system of records.

DATES: This proposed action will be effective without further notice on May 21, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: April 16, 2001.
L.M. Bynum,
Alternate OSD Federal Register Liaison Officer, Department of Defense.

Deletion

A0690-400 CE

System Name:

Corps of Engineers Automated Legal System (CEALS) Training Information Program (February 22, 1993, 58 FR 10002). Reason: This system has been discontinued and the records destroyed.

Amendment

A0601-100 TAPC

System Name:

Officer Appointment Files (February 22, 1993, 58 FR 10002).

Changes:

* * * * *

Authority for Maintenance of the System:

Delete entry and replace with “10 U.S.C. 3013, Secretary of the Army and Army Regulation 601-100, Appointment of Commissioned and Warrant Officers in the Regular Army.”

* * * * *

Storage:

Delete entry and replace with “Paper records in file folders stored in file cabinets on microfiche and electronic storage media.”

Retrievability:

Delete entry and replace with “By individual's surname and Social Security Number.”

Safeguards:

Delete entry and replace with “Records are maintained in secured areas and secured buildings accessible only to designated individuals having official need thereof in the performance of their duties.”

Retention and Disposal:

Delete entry and replace with “Inquiry and eligibility files retain and destroy after 2 years. Appointment application records destroy after 1 year. Appointment selection board records retain for 3 years then destroy. Appointment lists retain and destroy after 2 years.”

* * * * *

A0601-100 TAPC

System Name:

Officer Appointment Files.

System Location:

Commander, U.S. Total Army Personnel Command, Chief, Officer Records Branch, 200 Stovall, Street, Alexandria, VA 22332-0400.

Secondary Locations:

Army installations and commands. Official mailing addresses are published as an appendix to the Army’s compilation of record systems notices.

Categories of Individuals Covered by the System:

Applicants for appointment in the U.S. Army or U.S. Army Reserves.

Categories of Records in the System:

Individual applications for appointment as a warrant or commissioned officer, evaluation reports, supplemental information regarding qualifications, notification of acceptance/rejection and similar relevant documents and reports.

Authority for Maintenance of the System:

10 U.S.C. 3013, Secretary of the Army; Army Regulation 601-100, Appointment of Commissioned and Warrant Officers in the Regular Army; and Executive Order 9397 (SSN).

Purpose(s):

To determine acceptability of applicants into the Army officer ranks.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and Practices for Storing, Retrieving, Accessing, Retaining, and Disposing of Records in the System:

Storage:

Paper records in file folders stored in file cabinets on microfiche and electronic storage media.

Retrievability:

By individual's surname and Social Security Number.

Safeguards:

Records are maintained in secured areas and secured buildings accessible only to designated individuals having official need thereof in the performance of their duties.

Retention and Disposal:

Inquiry and eligibility files retain and destroy after 2 years. Appointment application records destroy after 1 year. Appointment selection board records retain for 3 years then destroy. Appointment lists retain and destroy after 2 years.

System Manager(s) and Address:

Commander, U.S. Total Army Personnel Command, Officer Records Branch, 200 Stovall, Street, Alexandria, VA 22332-0400.

Notification Procedure:

Individuals seeking to determine if information about themselves is contained in this record system should address written inquiries to the Army installation in which application was sent or to the Commander, U.S. Total Army Personnel Command, Officer Records Branch, 200 Stovall, Street, Alexandria, VA 22332-0400.

Individual should provide the full name, Social Security Number, date of application, place to which sent, and any other information that will assist in locating the record.

Record Access Procedures:

Individuals seeking access to records about themselves contained in this record system should address written inquiries to the Army installation in which application was sent or to the Commander, U.S. Total Army Personnel Command, Officer Records Branch, 200 Stovall, Street, Alexandria, VA 22332-0400.

Individual should provide the full name, Social Security Number, date of application, place to which sent, and any other information that will assist in locating the record.

Contesting Record Procedures:

The Army's rules for accessing records, and for contesting contents and appealing initial agency determinations are contained in Army Regulation 340-21; 32 CFR part 505; or may be obtained from the system manager.

Record source categories:

From the individual; extracts from personnel records; forms, documents, and related papers originated by or received in Army offices.

Exemptions claimed for the system:

None.

A0601-210 TAPC

System name:

Eligibility Determination Files (February 22, 1993, 58 FR 10002).

Changes

* * * * *

System location:

Delete entry and replace with “U.S. Total Army Personnel Command, Non-Commissioned Officer In Charge of Eligibility Inquiries Section, 2461 Eisenhower Avenue, Alexandria, VA 22331-0450.”

Categories of individuals covered by the system:

Delete entry and replace with “Applicants for enlistment who require a waiver for an adult felony; soldiers requesting continuation on active duty who require waiver for certain disqualifications.”

* * * * *

Authority for maintenance of the system:

Delete entry and replace with “10 U.S.C. 504, Persons not Qualified; 10 U.S.C. 3013, Secretary of the Army; Army Regulation 601-210, Regular Army and Army Reserve Enlisted Program; Army Regulation 635-200, Enlisted Personnel; Army Regulation 601-280, Army Retention Program and E.O 9397 (SSN).”

Purpose(s):

Delete entry and replace with “To evaluate waiver requests, determine appropriate action and render decision.”

* * * * *

Storage:

Add to entry “and on electronic storage media”.

Retrievability:

Delete entry and replace with “By Social Security Number and surname.”

* * * * *

Retention and disposal:

Delete entry and replace with “Enlistment eligibility records are destroyed upon reenlistment of individual. Inquiry records and other related documents are maintained for 7 years then destroyed.”

* * * * *

A0601-210 TAPC

System name:

Eligibility Determination Files.

System location:

U.S. Total Army Personnel Command, Non-Commissioned Officer In Charge of Eligibility Inquiries Section, 2461 Eisenhower Avenue, Alexandria, VA 22331-0450.

Categories of individuals covered by the system:

Applicants for enlistment who require a waiver for an adult felony; soldiers requesting continuation on active duty who require waiver for certain disqualifications.

Categories of records in the system:

File contains requests for enlistment eligibility or waiver of disqualifications for enlistment/reenlistment, requests for grade determination, documents reflecting determinations made thereon, copies or extracted items from basic records, transmittals, and suspense documents needed to assure that requests are acted upon in a timely manner.

Authority for maintenance of the system:

10 U.S.C. 504, Persons not Qualified; 10 U.S.C. 3013, Secretary of the Army; Army Regulation 601-210, Regular Army and Army Reserve Enlisted Program; Army Regulation 635-200, Enlisted Personnel; Army Regulation 601-280, Army Retention Program and E.O 9397 (SSN).

Purpose(s):

To evaluate waiver requests, determine appropriate action and render decision.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and Practices for Storing, Retrieving, accessing, Retaining, and Disposing of Records in the System:

Storage:

Paper records in file folders and on electronic storage media.

Retrievability:

By Social Security Number and surname.

Safeguards:

Records are maintained in areas accessible only to properly cleared, trained, and authorized personnel. Records are in a secure office in a secure building.

Retention and disposal:

Enlistment eligibility records are destroyed upon reenlistment of individual. Inquiry records and other related documents are maintained for 7 years then destroyed.

System manager(s) and address:

Commander, U.S. Total Army Personnel Command, 2461 Eisenhower Avenue, Alexandria, VA 22332-0400.

Notification Procedure:

Individuals seeking to determine if information about themselves is contained in this records system should address written inquiries to the U.S. Total Army Personnel Command, Eligibility Inquiries Section, Retention Management Division, Enlistment Personnel Management Directorate, 2461 Eisenhower Avenue, Alexandria, VA 22331-0451.

Individual should provide the full name, Social Security Number, date of separation and service component, if applicable, current address and telephone number, and signature.

Record Access Procedures:

Individuals seeking access to records about themselves contained in this record system should address written inquiries to the U.S. Total Army Personnel Command, Eligibility Inquiries Section, Retention Management Division, Enlistment Personnel Management Directorate, 2461 Eisenhower Avenue, Alexandria, VA 22331-0451.

Individual should provide the full name, Social Security Number, date of separation and service component, if applicable, current address and telephone number, and signature.

Contesting record procedures:

The Army's rule for accessing records, and for contesting contents and appealing initial agency determinations are contained in Army Regulation 340-21; 32 CFR part 505; or may be obtained from the system manager.

Record source categories:

From the individual, official military personnel records; investigative/security dossiers; medical evaluations; Army records and reports.

Exemptions claimed for the system:

None.

[FR Doc. 01-9830 Filed 4-19-01; 8:45 am]

BILLING CODE 5001-10-P